ENVIRONMENTAL PROTECTION AGENCY

40 CFR Parts 52 and 81

[ID-02-003; FRL -7568-9]

Approval and Promulgation of Implementation Plans and Designation of Areas for Air Quality Planning Purposes: Ada County/Boise, ID Area

AGENCY: Environmental Protection Agency.

ACTION: Final rule.

SUMMARY: The Environmental Protection Agency (EPA or Agency) is taking final action to rescind its earlier finding that the PM10 standards promulgated on July 1, 1987 and the accompanying nonattainment designation and classification are no longer applicable in the Ada County/Boise, Idaho area, and simultaneously, approve a PM10 State Implementation Plan maintenance plan for the Ada County/Boise Idaho area and to redesignate the area from nonattainment to attainment. PM10 air pollution is suspended particulate matter with a diameter less than or equal to a nominal ten micrometers.

EFFECTIVE DATE: November 26, 2003.

ADDRESSES: Copies of the State's request and other supporting information used in developing this action are available for inspection during normal business hours at the following locations: EPA, Office of Air Quality (OAQ-107), 1200 Sixth Avenue, Seattle, Washington 98101, and State of Idaho, Department of Environmental Quality (IDEQ), 1410 North Hilton, Boise, Idaho 83706-1255. Interested persons wanting to examine these documents should make an appointment with the appropriate office at least 24 hours before the visiting day. A reasonable fee may be charged for copies.

FOR FURTHER INFORMATION CONTACT: Donna Deneen, Office of Air Quality (OAQ-107), EPA Region 10, 1200 Sixth Avenue, Seattle, Washington 98101 (206) 553-6706.

SUPPLEMENTARY INFORMATION:

Table of Contents

I. What Is the Purpose of This Rulemaking?

II. What Comments Did EPA Receive on the Proposed Action?

III. What Final Action Is Being Taken?

IV. Statutory and Executive Order Reviews

I. What Is the Purpose of This Rulemaking?

Under the authority of the federal Clean Air Act (Clean Air Act or the Act) EPA is finalizing certain actions related to the PM10 designation and classification of the Ada County/Boise, Idaho area.¹ First, EPA is rescinding the March 12, 1999 finding (64 FR 12257) that the PM10 standards promulgated on July 1, 1987 (52 FR 24634) and the accompanying designation and classification for PM10 no longer apply in the Ada County/Boise, Idaho area. The intended effect of this action is to restore the applicability of the current PM10 standards in the Ada County/Boise, Idaho area as well as the nonattainment designation and moderate classification associated with those standards. Simultaneously, EPA is taking final action to approve the PM10 maintenance plan for the Ada County/Boise, Idaho area as a State Implementation Plan (SIP) revision and to redesignate the area to “attainment” for PM10.

¹ Although the State's maintenance plan and redesignation request refers to “Northern Ada County,” we are using the term “Ada County/Boise, Idaho” or “Ada County/Boise, Idaho area” for consistency with 40 CFR 81.313.

The action to redesignate Ada County/Boise, Idaho to attainment is based on valid monitoring data and projections of ambient air quality made in the demonstration that accompanies the maintenance plan. EPA believes the area will continue to meet the National Ambient Air Quality Standards (NAAQS or standards) for PM10 for at least 10 years beyond this redesignation, as required by the Act. A detailed description of our proposed action to rescind the March 12, 1999 finding and to approve the Ada County/Boise, Idaho maintenance plan and redesignation request was published in a proposed rulemaking in the Federal Register on July 30, 2003 (68 FR 44715).

II. What Comments Did EPA Receive on the Proposed Action?

EPA received the following comments from six commenters on the July 30, 2003 proposal for the Ada County/Boise, Idaho area. All comments either were in support of the proposal, requested further explanation on certain aspects of the proposal, or were outside the scope of the proposal.

Comment: The air in Canyon County is not polluted because of vehicle emissions. An inspection and maintenance program is not needed in Canyon County.

Response: EPA is approving a maintenance plan for Ada County, not Canyon County. However, to the extent that the State believes that control measures outside the Ada County/Boise, Idaho area support the maintenance plan, EPA is approving, at the State's request, those measures as part of the maintenance plan as well. The federal Clean Air Act does not specify the particular control measures that must be used to demonstrate maintenance of the standards. Under the Act, state and local governments have the primary responsibility to determine which pollution sources to control, figure out how controls will be implemented, and demonstrate the controls result in attainment and maintenance of the NAAQS. In this case, the State has made that demonstration. EPA's role is to ensure that whatever measures are selected produce the emissions reductions needed to meet the standards. Our action here merely approves the maintenance plan and its associated control measures already adopted by the State and imposes no additional requirements.

Comment: Canyon County and Ada County are not one airshed. Canyon County should not be included in the monitoring network for the Ada County area. Canyon County should be its own separate area and treated separately.

Response: For the purpose of air quality management, the boundary of an air shed is determined based on, among other things, the meterological and topographical parameters, pollution source and impact area, and land use characteristics. Often the airshed boundary does not follow political jurisdiction boundaries such as a county line or city line. Based on the air quality studies and data available to EPA, including the modeling reconciliation in Appendix D of the maintenance plan, it is evident that pollution production and transport in the Treasure Valley area encompass geographical boundaries larger than any specific county border. As both Ada and Canyon County are experiencing rapid growth and expansion, it is logical that the airshed management efforts focus on the larger area. The State selects the monitor locations (including in Ada County and Canyon County) that make up its monitoring network. EPA has approved the State's network as meeting the criteria in 40 CFR 58 appendix D.

Comment: The Middleton monitors do not reflect Canyon County air quality and should be repositioned. DEQ should not use the Middleton monitors to define Canyon County's ozone reading.

Response: The Middleton monitors measure ozone and PM2.5. This action relates to PM10. We will forward the comments related to ozone and PM2.5 to appropriate representatives at IDEQ.

Comment: EPA should emphasize that this action has nothing to do with Canyon County and asks that we refute the statement in the settlement agreement that IDEQ intends to develop an air quality plan for Treasure Valley.

Response: While EPA agrees that IDEQ's efforts to develop an air quality plan for the Treasure Valley are independent of our action on the maintenance plan, EPA has no basis for refuting IDEQ's intentions to develop an air quality plan for the Treasure Valley. It is entirely appropriate for—in fact EPA encourages—the State to take any preventive steps needed to ensure air quality standards are met in the Treasure Valley and all of Idaho.

Comment: The basis for reinstating the PM10 NAAQS is no longer valid due to a decision favorable to EPA in the American Trucking Association, et al. v. EPA et al., and consolidated cases.

Response: As explained in the proposal, the basis for revoking the 1987 PM10 standards in the Ada County/Boise, Idaho nonattainment area was eliminated when the U.S. Court of Appeals for the District of Columbia vacated the revised 1997 PM10 standards. Since we revoked the 1987 standards and the court vacated the 1997 standards, there are no federal PM10 standards currently applicable in the Ada County/Boise, Idaho area. Therefore, we are rescinding the finding that the 1987 PM10 standards are no longer applicable in Ada County/Boise, Idaho and reinstating the 1987 PM10 standards. The decision in American Trucking Association referred to by the commenter addressed the PM2.5 standards and not the 1987 or 1997 PM10 standards.

Comment: Control measures are not needed in Canyon County because Ada County has attained the PM10 NAAQS since 1999.

Response: In order for EPA to redesignate the Ada County/Boise, Idaho area, the State must not only show that the area is currently attaining the PM10 NAAQS, but that it will continue to attain the PM10 NAAQS 10 years into the future. In making its demonstration, the State must consider anticipated changes to the area over the next 10 years, including the impacts of surrounding areas. EPA has reviewed the State's 10 year demonstration and finds that the demonstration meets the review criteria derived from the Act, general preamble (57 FR 13498), and further interpreted by a policy and guidance memorandum from John Calcagni, September 4, 1992, Procedures for Processing Requests to Redesignate Areas to Attainment (Calcagni Memorandum). (See also Section III of the Technical Support Document). Based on this review, EPA has no basis for disapproving any control measures in the maintenance plan submitted by the State. The federal Clean Air Act does not specify the particular control measures that the State must use to demonstrate maintenance of the standards. Under the Act, state and local governments have the primary responsibility to determine which pollution sources to control and how those controls will be implemented. EPA's role is to ensure that whatever measures are selected produce the emission reductions needed to meet the standards. In this case, the State has made that demonstration. Our action here merely approves the maintenance plan and its associated control measures already adopted by the state and imposes no additional requirements.

Comment: The commenter requests that all references to Canyon County be omitted in the approval of the Ada County SIP.

Response: As discussed above, the Ada County/Boise, Idaho maintenance plan meets EPA's review criteria. EPA has no basis for omitting references to Canyon County.

Comment: Canyon County and Ada County should not be combined because of geological, geographical, population, and economic activity differences. The plan is only about Ada County, not Canyon County, and the counties should not be combined because they differ in various ways.

Response: EPA agrees that there are differences between Canyon County and Ada County. EPA believes IDEQ has appropriately accounted for those differences in its emissions inventory and modeling demonstration, as indicated in our evaluation of those elements in the Technical Support Document.

Comment: The commenter questions whether The Amalgamated Sugar Company contributes to the Ada County PM10 levels since Canyon County has not exceeded the standards.

Response: The Amalgamated Sugar Company, although located in Canyon County, is along the Ada County's upwind flow which sometimes impacts a portion of the Ada County PM10 nonattainment area. It is appropriate to include in the maintenance demonstration a source that is located in an attainment area but impacts or interferes with the air quality of the nonattainment or maintenance area at issue in the SIP or maintenance plan.

Comment: Contingency measures should not apply to Canyon County.

Response: The federal Clean Air Act requires contingency provisions to be an element of a maintenance plan but does not specify which ones to include or where or how they should be applied. Under the federal Clean Air Act, state and local governments have the primary responsibility of determining the location, scope, and timing of particular contingency measures. It is EPA's role is to ensure that whatever measures are selected would promptly correct any violation of the NAAQS that occurs after redesignation of the area. The contingency measures in the plan meet this requirement. Our action here merely approves these contingencies as part of the maintenance plan and imposes no additional requirements.

Comment: The commenter asks about the meaning of the correction made to the PM10 maintenance plan.

Response: EPA assumes the commenter is referring to a revision IDEQ submitted to EPA on July 21, 2003. The revision corrected an error found in the fugitive road dust emissions for future years. While this correction changed the value of future fugitive road dust emissions, it did not change the method for determining fugitive road dust emissions in the submitted maintenance plan. IDEQ reran the model to incorporate the correction and submitted an addendum reflecting the results of the new modeling run.

Comment: The commenter inquires who has authority to withhold Federal Funds.

Response: EPA assumes the commenter is referring to section 176(c)(2) of the Clean Air Act, which prohibits a Federal agency from approving, accepting or funding any transportation plan, program or project in certain circumstances. Under this provision, the Federal Government, not a State or local agency, has the ability to withhold Federal transportation funds.

Comment: The commenter inquires about the criteria EPA uses to approve a submission from COMPASS and IDEQ.

Response: EPA assumes the commenter means a SIP submission. SIP submissions are submitted by the Governor of Idaho or his designee. As discussed in the proposal on July 30, 2003 (68 FR 44715), the State's submission must meet the requirements of the Clean Air Act. The review criteria is derived from the Act, general preamble, and further interpreted by a policy and guidance memorandum from John Calcagni, September 4, 1992, Procedures for Processing Requests to Redesignate Areas to Attainment (Calcagni Memorandum). (See also Section III of the Technical Support Document).

Comment: The monitors in Canyon County show different levels of pollutants than in Ada County and, therefore, approvability of the plan is questionable.

Response: Air quality monitors in an airshed do not record same levels at the same time because windflows or pollution sources impacting two monitors are not same. Unless there is a region or area-wide pollution source that is causing the problem, one expects to see different levels at different monitors.

Comment: More monitors are needed and monitors should be at locations indicating the most air quality problems.

Response: As mentioned above, the State selects the monitors that make up the State monitoring network. EPA has approved the State's network as meeting the criteria in 40 CFR 58 appendix D. EPA, however, will forward this comment to monitoring representatives at IDEQ.

Comment: Dairy operations should have more restrictions.

Response: The State of Idaho has the primary responsibility to determine which sources to control to meet the NAAQS. Our action here merely approves the maintenance plan as meeting Federal requirements and imposes no additional requirements. In this instance, IDEQ has devised an approach that meets and maintains attainment needs by controlling the sources that they have chosen.

Comment: The CMAQ model should be used to compare results with Environ's CAMX model.

Response: CMAQ is a more sophisticated and advanced air quality model. The input parameters (chemistry and meteorology) to run the CMAQ model are not yet fully developed for the Ada County/Boise, Idaho area. IDEQ, EPA, and several other partners are currently working together to develop a CMAQ modeling system for the northwest including the Boise area for use in future applications.

Comment: The objective should be to model the meteorology and the air quality of the valley in real time.

Response: EPA agrees that a real time modeling system would be valuable for the air quality management. EPA Region 10, states, and several other partners have been collaboratively working to develop a real time air quality simulation system for the northwest including the Boise area. However, for the purpose of an attainment or maintenance demonstration, it is generally adequate to simulate typical historical worst case pollution episodes.

Comment: Air quality impacts from industry are overstated because the potential to emit is used rather than actual emissions. Micron PC.com's projected emissions are over-estimated and requests that IDEQ correct them.

Response: IDEQ appropriately determined industrial emissions based on a source's potential to emit because there are no permanent, enforceable measures to prevent the higher potential emission levels from occurring. If a facility's projected emissions are higher than its potential to emit, the use of those emissions in the State's demonstration would indicate over-control and would have no effect on the approvability of the maintenance plan. We will, however, forward this correction request to IDEQ.

Comment: The commenter emphasizes the importance of enforcing and monitoring facility compliance with the operating permits that the state relied on to demonstrate attainment. The commenter also encourages active enforcement of local laws, permits, regulations and ordinances, specifically the municipal solid waste ban because in order to take credit for reductions from these new laws, they must be successfully implemented. Additionally, the commenter also requests that EPA require IDEQ to certify that all inspections are completed and facilities are in compliance.

Response: EPA agrees that the enforcement of operating permits, laws, regulations, and ordinances is an important component of the State's air quality control program. As discussed in the Technical Support Document, the SIP and its control measures meet the requirements for permanent and enforceable measures. EPA further believes that the state has adequately shown that it has the appropriate personnel, funding and authority to enforce and ensure compliance of its permits, laws, regulations and ordinances. Since we are taking final action on a proposal to approve the States's maintenance plan and request to redesignate the Ada County/Boise, Idaho as an attainment area and since the State's submission meets all the requirements for approval, it is not appropriate in this action to impose additional requirements as requested by the commenter.

Comment: The maintenance plan should be changed if permit conditions that were relied on to demonstrate compliance are changed.

Response: EPA agrees with the commenter. Because emission rates must reflect permanent, enforceable measures, any changes to the permit conditions relied on to demonstrate compliance with the PM10 NAAQS are not federally enforceable until the State submits and EPA approves the revised conditions.

III. Final Action

The Environmental Protection Agency rescinds its earlier finding that the PM10 standards promulgated on July 1, 1987 and the accompanying nonattainment designation and classification are no longer applicable in the Ada County/Boise, Idaho area, and simultaneously, approves a PM10 SIP maintenance plan for the Ada County/Boise Idaho area and to redesignate the area from nonattainment to attainment.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 26, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Particulate matter, Reporting and recordkeeping requirements.

40 CFR Part 81

Environmental protection, Air pollution control, National parks, Wilderness areas.

Dated: September 29, 2003.
L. John Iani,
Regional Administrator, Region 10.

Chapter I, title 40 of the Code of Federal Regulations is amended as follows:

PART 52—[AMENDED]

1. The authority citation for Part 52 continues to read as follows:

Authority: 42 U.S.C. 7401 et seq.

Subpart N—Idaho

2. Section 52.670 is amended by adding paragraph (c)(38) to read as follows:

§ 52.670 Identification of plan.

* * * * *

(c) * * *

(38) The Idaho Department of Environmental Quality (Idaho DEQ, the State, or Idaho) submitted a PM10 maintenance plan and redesignation request for the Ada County/Boise, Idaho area on September 27, 2002, and provided supplemental information on July 10, 2003 and July 21, 2003.

(i) Incorporation by reference.

(A) The following terms and conditions limiting particulate matter emissions in the following permits:

(1) State of Idaho Air Pollution Operating Permit for LP Wood Polymers, Inc. Permit No. 001-00115, issued July 12, 2002, the following conditions: 1.1, 1.3, 3.1, and the Appendix.

(2) State of Idaho Air Pollution Operating Permit for Consolidated Concrete Company, Permit No. 001-00046, issued December 03, 2001, the following conditions: 1.1, 1.3, 2.3, 3.1, 3.2, and the Appendix.

(3) State of Idaho Air Pollution Operating Permit for Crookham Company, Permit No. 027-00020, issued January 18, 2002, the following conditions: 1.1, 1.3, 2.1, 2.3, 3.1, 3.1.1, 3.1.2, 3.2, and the Appendix.

(4) State of Idaho Air Pollution Operating Permit for Double D Service Center, Permit No. 001-00168, issued February 4, 2002, the following conditions: 1.1, 1.3, 3.1, 3.2.1, 3.2.2, 3.2.3, and the Appendix.

(5) State of Idaho Air Pollution Operating Permit for Plum Creek Northwest Lumber, Inc., Permit No. 001-00091, issued July 12, 2002, the following conditions: 1.1, 1.3, 2.1.2, 3.1, and the Appendix.

(6) State of Idaho Air Pollution Operating Permit for C. Wright Construction, Inc., Permit No. T2-000033, issued July 08, 2003, the following conditions: 2 (heading only), 2.5, (2.12, Table 2.2 as it applies to PM10), 2.14, 3 (heading only), 3.3, Table 3.2, 3.4, 3.5, 3.6, 3.7, 3.8, 3.10, 4 (heading only), 4.2, 4.3, 4.4, 4.7, 5, and Table 5.1.

(7) State of Idaho Air Pollution Operating Permit for Nelson Construction Co., Permit No. T2-020029, issued July 21, 2003, the following conditions: 2 (heading only), 2.12, 2.14, 3 (heading only, 3.3, 3.4, 3.6, 3.7, 3.9, 3.10, 3.11, 3.12, 4 (heading only), 4.3, 4.4, 4.5, 4.6, 5, and Table 5.1.

(8) State of Idaho Air Pollution Operating Permit for Mike's Sand and Gravel, Permit No. 001-00184, issued July 12, 2002, the following conditions: 1.1, 1.3, 2.2.1, 3.1, and the Appendix.

(9) State of Idaho Air Pollution Operating Permit for Idaho Concrete Co., Permit No. T2-020031, issued July 8, 2003, the following conditions: 2 (heading only), 2.5, 2.13, 3 (heading only), 3.3, 3.4, 3.6, 3.7, 3.8, 4 (heading only), and Table 4.1.

(10) State of Idaho Air Pollution Operating Permit for Idaho Concrete Co., Permit No T2-020032, issued July 8, 2003, the following conditions: 2 (heading only), 2.5, 2.13, 3 (heading only), 3.3, 3.4, 3.6, 3.7, 3.8, 4 (heading only), and Table 4.1.

(11) State of Idaho Air Pollution Operating Permit for Idaho Concrete Co., Permit No. T2-020033, issued July 8, 2003, the following conditions: 2 (heading only), 2.5, 2.13, 3 (heading only), 3.3, 3.4, 3.6, 3.7, 3.8, 4 (heading only), and Table 4.1.

(12) State of Idaho Air Pollution Operating Permit for The Amalgamated Sugar Company LLC, Permit No. 027-00010, issued September 30, 2002, the following conditions: 2 (heading only), (2.7, Table 2.2 as it applies to PM10,) 2.10, 2.10.1, 2.10.2, 2.11, 2.11.1, 2.11.2, 2.11.3, 2.11.4, 2.11.5, 2.12, 2.12.1, 2.12.2, 2.12.3, 2.13, 2.13.1, 2.13.2, 2.13.3, 2.14, 2.14.1, 2.14.2, 2.16, 3 (heading only), (3.3, Table 3.2 as it applies to PM10), 3.5, 3.7, 3.8, 3.8.1, 3.8.2, 3.8.3, 3.8.4, 3.8.5, 3.8.6, 3.8.7, 3.8.8, 3.9, 4 (heading only), (4.3, Table 4.1 as it applies to PM10), 4.5, 4.6, 4.7, 5 (heading only), (5.3, Table 5.3 as it applies to PM10), 5.5, 5.9, 5.9.1, 5.9.2, 5.9.3, 5.9.4, 5.9.5, 5.9.6, 5.9.7, 5.9.8, 5.9.9, 5.10, 5.11, 6 (heading only), 6.3, Table 6.1, 6.5, 6.6, 6.7, 6.7.1, 6.7.2, 6.8, 7 (heading only), (7.3, Table 7.1 as it applies to PM10), 7.5, 7.7, 7.7.1, 7.7.2, 7.8, 8 (heading only), 8.3, Table 8.1, 8.5, 8.7, 8.7.1, 8.7.2, 8.8, 9 (heading only), 9.3, Table 9.1, 9.5, 9.7, 9.7.1, 9.7.2, 9.8, 10 (heading only), 10.3, Table 10.1, 10.6, 10.8, 10.8.1, 10.8.2, 10.9, 11 (heading only), 11.3, Table 11.2, 11.6, 11.8, 11.8.1, 11.8.2, 11.9, 12 (heading only), 12.3, Table 12.1, 12.5, 12.7, 12.7.1, 12.7.2, 12.8, 13 (heading only), 13.1, Table 13.1 (except as it applies to condition 13.3), (13.2, Table 13.2 as it applies to PM10), 13.2.1, 13.4, 13.4.1, 13.4.2, 13.4.3, 13.5, 13.5.2, 13.5.3, 13.6, 13.6.1, 13.6.2, 13.7, 13.7.1, 13.7.2, 13.8, 13.8.1, 13.8.2, 13.8.3, 13.10, and 13.11.

3. Section 52.672 is amended by revising paragraph (e) to read as follows:

§ 52.672 Approval of plans.

* * * * *

(e) Particulate Matter. (1) EPA approves as a revision to the Idaho State Implementation Plan, the Northern Ada County PM10 SIP Maintenance Plan, adopted by the State on September 26, 2002.

(2) [Reserved.]

* * * * *

§ 52.676 [Removed and Reserved]

4. Remove and reserve § 52.676.

PART 81—[AMENDED]

1. The authority citation for Part 81 continues to read as follows:

Authority: 42 U.S.C. 7401 et seq.

2. In § 81.313, the table entitled “Idaho PM-10”, the entry for “Ada County: Boise” is revised to read as follows:

§ 81.313 Idaho.

* * * * *

Idaho—PM-10
Designated area | Designation: Date | Designation: Type | Classification: Date | Classification: Type
* * * * * * *
Ada County: Boise—Northern Boundary—Beginning at a point in the center of the channel of the Boise River, where the line between sections 15 and 16 in Township 3 north (T3N), range 4 east (R4E), crosses said Boise river; thence, west down the center of the channel of the Boise River to a point opposite the mouth of More's Creek; thence, in a straight line north 44 degrees and 38 minutes west until the said line intersects the north line T5N (12 Ter. Ses. 67); thence west to the northwest corner T5N, R1W Western Boundary—Thence, south to the northwest corner of T3N, R1W; thence east to the northwest corner of section 4 of T3N, R1W; thence south to the southeast corner of section 32 of T2N, R1W; thence, west to the northwest corner of T1N, R1W; thence, south to the southwest corner of section 32 of T2N, R1W; thence, west to the northwest corner of T1N, R1W; thence south to the southwest corner of T1N, R1W Southern Boundary—Thence, east to the southwest corner of section 33 of T1N, R4E Eastern Boundary—Thence, north along the north and south center line of Townships T1N, R4E, T2N, R4E, and T3N, R4E, Boise Meridian to the beginning point in the center of the channel of the Boise River. | 12/26/2003 | Attainment |  |
* * * * * * *

* * * * *

[FR Doc. 03-26919 Filed 10-24-03; 8:45 am]

BILLING CODE 6560-50-P